COMMISSION ON CIVIL RIGHTS

Notice of Public Meeting of the Missouri Advisory Committee for a Meeting on Discussing the Events of Ferguson, Missouri, and the Committee Response

AGENCY: U.S. Commission on Civil Rights.

ACTION: Notice of meeting.

SUMMARY: Notice is hereby given, pursuant to the provisions of the rules and regulations of the U.S. Commission on Civil Rights (Commission) and the Federal Advisory Committee Act that the Illinois Advisory Committee (Committee) will hold a meeting on Monday, August 25, 2014, for the purpose of discussing the recent events in Ferguson, Missouri, and determining what the appropriate next steps for the committee should be in light of these events.

Members of the public can listen to the discussion. This meeting is available to the public through the following toll-free call-in number: 888-523-1225, conference ID: 2925785. Any interested member of the public may call this number and listen to the meeting. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number.

Member of the public are also entitled to submit written comments; the comments must be received in the regional office by September 25, 2014. Written comments may be mailed to the Midwestern Regional Office, U.S. Commission on Civil Rights, 55 W. Monroe St., Suite 410, Chicago, IL 60615. They may also be faxed to the Commission at (312) 353-8324, or emailed to Administrative Assistant, Carolyn Allen at callen@usccr.gov. Persons who desire additional information may contact the Midwestern Regional Office at (312) 353-8311.

Records generated from this meeting may be inspected and reproduced at the Midwestern Regional Office, as they become available, both before and after the meeting. Records of the meeting will be available via www.facadatabase.gov under the Commission on Civil Rights, Missouri Advisory Committee link. Persons interested in the work of this Committee are directed to the Commission's Web site, http://www.usccr.gov, or may contact the Midwestern Regional Office at the above email or street address.

Agenda:

Welcome and Introductions

10:00 a.m. to 10:10 a.m.

S. David Mitchell, Chairman, Missouri Advisory Committee

Discussion of Events in Ferguson, MO

10:10 a.m. to 10:45 a.m.

Missouri Advisory Committee

Planning Next Steps

10:45 a.m. to 11:00 a.m.

Adjournment

11:00 a.m.

DATES: The meeting will be held on Monday, August 25, 2014, at 10:00 a.m.

Public Call Information:

Dial: 888-523-1225

Conference ID: 2925785

Exceptional Circumstance: Pursuant to 41 C.F.R. § 102-3.150, the notice for this meeting is given less than 15 calendar days prior to the meeting because of the exceptional circumstances currently happening in Ferguson, MO. Given the exceptional urgency of the events, the agency and advisory committee deem it important for the advisory committee to begin planning an appropriate response immediately.

Dated: August 20, 2014.
David Mussatt,
Chief, Regional Programs Unit.

[FR Doc. 2014-20229 Filed 8-25-14; 8:45 am]

BILLING CODE 6335-01-P